DEPARTMENT OF AGRICULTURE

Animal and Plant Health Inspection Service

[Docket No. APHIS-2023-0034]

Notice of Request for Extension of Approval of an Information Collection; Importation of Beef and Ovine Meat From Uruguay and Beef From Argentina and Brazil

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for the importation of beef and ovine meat from Uruguay and beef from Argentina and Brazil.

DATES: We will consider all comments that we receive on or before July 31, 2023.

ADDRESSES: You may submit comments by either of the following methods:

• Federal eRulemaking Portal: Go to www.regulations.gov. Enter APHIS-2023-0034 in the Search field. Select the Documents tab, then select the Comment button in the list of documents.

• Postal Mail/Commercial Delivery: Send your comment to Docket No. APHIS-2023-0034, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for the importation of beef and ovine meat from Uruguay and beef from Argentina and Brazil, contact Dr. Lindsay Chase, Veterinary Medical Officer, Animal Product Imports, Strategy & Policy, VS, APHIS, 4700 River Road, Unit 40, Riverdale, MD 20737-1236; (301) 851-3388; email: lindsay.chase@usda.gov. For more detailed information on the information collection process, contact Mr. Joseph Moxey, APHIS' Paperwork Reduction Act Coordinator, at (301) 851-2483; email: joseph.moxey@usda.gov.

SUPPLEMENTARY INFORMATION:

Title: Importation of Beef and Ovine Meat From Uruguay and Beef From Argentina and Brazil.

OMB Control Number: 0579-0372.

Type of Request: Extension of approval of an information collection.

Abstract: The Animal Health Protection Act (7 U.S.C. 8301 et seq.) authorizes the Secretary of Agriculture to, among other things, prohibit or restrict the importation and interstate movement of animals and animal products into the United States to prevent the introduction of animal diseases and pests. The regulations for the importation of animals and animal products are contained in 9 CFR parts 92 through 98.

The regulations in part 94 provide the requirements for the importation of specified animals and animal products to prevent the introduction into the United States of various animal diseases, including foot-and-mouth disease (FMD). Among other things, the regulations in § 94.1 place certain restrictions on beef and ovine meat exported to the United States in accordance with § 94.29, when the beef or ovine meat enters a port or otherwise transits a region where FMD exists during shipment to the United States. An authorized official of the exporting region must provide the Animal and Plant Health Inspection Service (APHIS) with certification that specific conditions for importation listed in § 94.1 have been met.

Section 94.29 places certain restrictions on the importation of fresh (chilled or frozen) beef and ovine meat from Uruguay and fresh (chilled or frozen) beef from certain regions in Argentina and Brazil into the United States to prevent the introduction of FMD. These conditions involve information collection activities such as the requirement that APHIS collect, for each shipment, certification from an authorized veterinary official of the country of export that the conditions in § 94.29 have been met. For some of these conditions to be met, the facility in which the bovines and sheep are slaughtered must allow periodic on-site evaluation and subsequent inspection of its facilities. Additional information collection activities included in this extension of approval include animal identification and testing of select lambs.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.662 hours per response.

Respondents: Authorized veterinary officials employed by the governments of Argentina, Brazil, and Uruguay, and managers of foreign facilities that process meat and meat products.

Estimated annual number of respondents: 13,100.

Estimated annual number of responses per respondent: 2.

Estimated annual number of responses: 27,913.

Estimated total annual burden on respondents: 18,482 hours. (Due to averaging, the total annual burden hours may not equal the product of the annual number of responses multiplied by the reporting burden per response.)

All responses to this notice will be summarized and included in the request for OMB approval. All comments will also become a matter of public record.

Done in Washington, DC, this 26th day of May 2023.
Michael Watson,
Acting Administrator, Animal and Plant Health Inspection Service.

[FR Doc. 2023-11711 Filed 5-31-23; 8:45 am]

BILLING CODE 3410-34-P